DEPARTMENT OF COMMERCE

National Oceanic and Atmospheric Administration

Availability of Seats for the Stellwagen Bank National Marine Sanctuary Advisory Council

AGENCY: National Marine Sanctuary System (NMSS), National Ocean Service (NOS), National Oceanic and Atmospheric Administration, Department of Commerce (DOC).

ACTION: Notice and request for applications; extension of deadline.

SUMMARY: The Stellwagen Bank National Marine Sanctuary (SBNMS or Sanctuary) is seeking applicants for the following fifteen vacant seats on its Sanctuary Advisory Council (Council): Research (2); Conservation (2); Education (2); Marine Transportation (1); Fixed Gear Fishing (1); Mobile gear Fishing (1); Recreation (1); Whale Watching Industry (1); Business/Industry (1); and Citizen-at-Large (3). Applicants are chosen based upon their particular expertise and experience in relation to the seat for which they are applying; community and professional affiliations; philosophy regarding the conservation and management of marine resources; and the length of residence in the area affected by the Sanctuary. Applicants who are chosen as members should expect to serve two or three-year terms, pursuant to the Council's Charter. Alternates to the fifteen members will also be chosen from the same pool of applicants.

DATES: The due date for applications has been extended to by June 30, 2001.

ADDRESSES: Application kits may be obtained from Sandi Dentino at Stellwagen Bank National Marine Sanctuary, 175 Edward Foster Road, Scituate, MA 02066. Completed applications should be sent to the same address.

FOR FURTHER INFORMATION CONTACT: Sandi Dentino, Stellwagen Bank National Marine Sanctuary, 175 Edward Foster Road, Scituate, MA 02066.

SUPPLEMENTARY INFORMATION: The SBNMS Advisory Council was established in 1998 to assure continued public participation in the management of the Sanctuary. The past Council was dissolved in 2000 and this recruitment will establish a new Council to advise the new Superintendent. Since its establishment, the original Council has played a vital role in the decisions affecting the Sanctuary and surrounding waters.

The Council's fifteen voting members represent a variety of local user groups, as well as the general public. Six ex-officio members will represent state and federal governmental jurisdictions.

The Council represents the coordination link between the Sanctuary and the state and federal management agencies, user groups, researchers, educators, policy makers, and other various groups that help to focus efforts and attention on Sanctuary issues.

The Council functions in an advisory capacity to the Sanctuary Superintendent and is instrumental in helping to develop policies and program goals, and to identify education, outreach, research, long-term monitoring, resource protection and revenue enhancement priorities. The Council works in concert with the Sanctuary Superintendent by keeping him informed about issues of concern throughout the Sanctuary, offering recommendations on specific issues, and aiding the Superintendent in achieving the goals of the Sanctuary program within the context of SBNMS programs and policies.

Authority: 16 U.S.C. Section 1431, et seq.

(Federal Domestic Assistance Catalog Number 11.429 Marine Sanctuary Program)
Margaret A. Davidson,
Acting Assistant Administrator for Oceans and Coastal Zone Management.

[FR Doc. 01-15837 Filed 6-22-01; 8:45 am]

BILLING CODE 3510-08-M